GENERAL SERVICES ADMINISTRATION

Notice of Intent To Prepare an Environmental Impact Statement for the Otay Mesa Land Port of Entry

AGENCY: General Services Administration.

ACTION: Notice of Intent.

SUMMARY: The General Services Administration (GSA) announces its intent to prepare an Environmental Impact Statement (EIS) for the modernization of the Otay Mesa Land Port of Entry (LPOE) in San Diego, California. The project will modernize the existing port to improve its functionality, capacity, and security.

The facility currently handles all traffic modes, including commercial vehicles, buses, privately operated vehicles (POVs), and pedestrians. Built in 1984 and expanded in 1994 to accommodate new commercial facilities and southbound commercial traffic, the existing 10 commercial and 13 POV booths no longer meet the Department of Homeland Security (DHS) security standards and are incapable of adequately handling current and projected traffic volumes.

GSA proposes to modernize the current port by remodeling, improving and expanding the existing facility through the acquisition of approximately 10 acres of land along the eastern boundary of the port. The modernized POV port will accommodate 24 primary booths for northbound inspection with future accommodation of another 12 booths. Roadway modifications within the port will be designed to improve traffic circulation through the LPOE and to enhance pedestrian safety. The commercial import facility will accommodate 12 primary booths and be modified to safely expedite truck inspections and decrease wait times. Energy conservation and sustainability provisions will be applied throughout the facility.

The EIS will evaluate the potential environmental impacts associated with alternatives to implement the proposed action described below, including the No Action Alternative:

Alternative 1—POV/Commercial LPOE: GSA will modernize the existing Otay Mesa LPOE to accommodate 12 commercial lanes and a combination of 24 POV/bus lanes. Approximately 10 acres of adjacent land on the east side of the LPOE will be acquired which will modernize the facility to accommodate modern operational requirements.

Alternative 2—Multimodal/Commercial LPOE: GSA will modernize the existing Otay Mesa LPOE as mentioned in Alternative 1 and integrate long range pedestrian and public transit capabilities.

Alternative 3—No Action: Continue operations at the existing LPOE facilities as they are currently configured.

FOR FURTHER INFORMATION CONTACT: Maureen Sheehan by phone at 253-931-7548 or by e-mail at Maureen.Sheehan@gsa.gov.

SUPPLEMENTARY INFORMATION: The scoping process has involved newspaper announcements in the San Diego Union Tribune on June 18, 2009 and in the Hispanos Unidos Spanish language newspaper on June 19, 2009. A project fact sheet has been distributed among likely stakeholders and one notice was placed in the July/August 2009 edition of the Otay Action Newsletter distributed by the Otay Mesa Chamber of Commerce. All announced open house was held within the community at the Otay Mesa Holiday Inn Express on July 7, 2009. All public materials presented at the open house were made available in English and Spanish. The purpose of the open house was to present information about the project and to receive input from the public regarding concerns or issues with the existing condition of the Otay Mesa LPOE and the proposed action. The public was also provided the opportunity to comment on the project by means of a form provided with the fact sheet and at the open house, or electronically via the project e-mail address (GSAOtayMesa@parsons.com). Comments were accepted by any of the means described above through August 7, 2009.

Twenty-six individuals attended the open house (excluding GSA project and contractor staff—five individuals), with the majority of those attending associated with a federal, state, or local agency. Comments were provided during discussions about the project with GSA and contractor staff. Written comments were provided by three emails and one letter. These communications suggested that there is a high degree of controversy surrounding the underwriting of local infrastructure needs associated with the project. GSA has therefore decided to prepare an EIS per GSA NEPA Desk Guide (1999; Section 7.4):

Acquisition of space by Federal construction or lease construction, or expansion or improvement of an existing facility, where one or more of the following applies:

* * * The proposed use will substantially increase the number of motor vehicles at the facility;

* * * There is evidence of current or potential community controversy about environmental justice or other environmental issues.

Dated: February 9, 2010.
Abdee Gharavi,
Program Director for Land Port of Entry.

[FR Doc. 2010-4188 Filed 2-26-10; 8:45 am]

BILLING CODE 6820-YF-P